DEPARTMENT OF DEFENSE

Department of the Army

Performance Review Board Membership

AGENCY: Department of the Army, DoD.

ACTION: Notice.

SUMMARY: Notice is given of the names of members of a Performance Review Board for the Department of the Army.

DATES: Effective Date: November 10, 2008.

FOR FURTHER INFORMATION CONTACT: Constance Ray, Civilian Senior Leader Management Office, 140 Army Pentagon, Washington, DC 20310-0140.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Department of the Army Performance Review Boards are:

1. Mr. Stephen Bagby, Deputy Assistant Secretary of the Army (Cost and Economics), Office of the Assistant Secretary of the Army (Financial Management and Comptroller).

2. Ms. Anita Bales, Deputy Auditor General for Forces and Financial Audits, Army Audit Agency.

3. Ms. Stephanie Barna, Deputy General Counsel (Operations and Personnel), Office of the General Counsel.

4. Ms. Grace Bochenek, Director, U.S. Army Tank-Automotive RDE Center, U.S. Army Materiel Command.

5. Major General Thomas Bostick, Commanding General, United States Army Recruiting Command.

6. Dr. Todd S. Bridges, Senior Research Scientist (Environmental), U.S. Army Engineering Research and Development Center.

7. Mr. Kirby Brown, Deputy to the Commanding General, Fires Center of Excellence/Director, Capabilities, Development and Integration, U.S. Army Training and Doctrine Command.

8. Dr. Kwong Kit Choi, Senior Research Scientist for Physical Sciences, U. S. Army Research Laboratory.

9. Mr. Ronald Chronister, Deputy to the Commander, U.S. Army Materiel Command.

10. Dr. Craig College, Deputy, Deputy Assistant Chief of Staff for Installation Management, Office of the Assistant Chief of Staff for Installation Management.

11. Mr. Ronald Davis, Deputy Chief for Business Transformation, U.S. Army Materiel Command.

12. Brigadier General Genero Dellarocco, Program Executive Officer for Missiles and Space, Office of the Assistant Secretary of the Army (Acquisition, Logistics, Technology).

13. Dr. Michael Drillings, Director for MANPRINT, Office of the Deputy Chief of Staff, G-1.

14. Mr. George Dunlop, Principal Deputy Assistant Secretary of the Army (Civil Works)/Deputy Assistant Secretary of the Army (Legislation), Office of the Assistant Secretary of the Army (Civil Works).

15. Mr. John Dugan, Deputy to the Commander, U.S. Army Tank Automotive & Armaments Command, U.S. Army Materiel Command.

16. Mr. James Engle, Managing Director, Defense Armaments, Communications-Electronics, and Investments Division, U.S. North Atlantic Treaty Organization.

17. Dr. Henry O. Everitt, III, Senior Research Scientist (Optical Sciences), U.S. Army Research, Development and Engineering Command.

18. Mr. Michael Etzinger, Director of Test Management, U.S. Army Developmental Test Command.

19. Mr. James Faust, Assistant Deputy Chief of Staff, G-2, Office of the Deputy Chief of Staff, G-2.

20. Ms. Sarah Finnicum, Director for Supply Policy, Program and Processes, Office of the Deputy Chief of Staff, G-4.

21. Mr. Peter Fisher, Technical Advisor Foreign Intelligence Production, Office of the Deputy Chief of Staff, G-2.

22. Mr. Patrick Fitzgerald, The Auditor General, Army Audit Agency.

23. Mr. Kevin Flamm, Program Manager, Assembled Chemical Weapons Alternatives, U.S. Army Materiel Command.

24. Brigadier General Jeffrey Foley, Commanding General, U.S. Army Signal Center and Fort Gordon.

25. Dr. Richard Fong, Senior Research Scientist (Warheads Technology), U. S. Army Armament Research Development and Engineering Center.

26. Ms. Patricia Fraser, Director, Resource Integration, Office of the Deputy Chief of Staff, G-2.

27. Ms. Janet Garber, Director, Test and Evaluation Management Agency, Office of the Deputy Under Secretary of the Army.

28. Dr. Grant R. Gerhart, Senior Research Scientist (Computer Modeling & Simulation), U. S. Army Tank Automotive Research Command.

29. Ms. Teresa Gerton, Deputy Chief of Staff for Resource Management, U.S. Army Materiel Command.

30. Mr. Troy Gilleland, Jr., Assistant Deputy Chief of Staff, G-1, U.S. Army Forces Command.

31. Mr. John Glen, Principal Assistant for Research and Technology, U.S. Army Medical Command.

32. Dr. Claire C. Gordon, Senior Research Scientist (Biological Anthropology), Research, Development & Engineering Command.

33. Mr. Brent Green, Deputy General Counsel (Ethics and Fiscal), Office of the General Counsel.

34. Ms. Judith Guenther, Director of Investment, Office of the Assistant Secretary of the Army (Financial Management and Comptroller).

35. Mr. Ernie Gurany, Senior General Military Intelligence Analyst, National Ground Intelligence Center.

36. Mr. Jerry Hansen, Deputy Assistant Secretary of the Army (Strategic Infrastructure), Office of the Assistant Secretary of the Army (Installations and Environment).

37. Ms. Barbara Heffernan, Director of Resource Integration, Office of the Assistant Chief of Staff for Installation Management.

38. Mr. Randy Hoag, Director, Defense Plans Division, U.S. North Atlantic Treaty Organization.

39. Mr. Edward Horton, Director of Logistics and Stationing Management, U.S. Army Installation Management Command.

40. Mr. James Johnson, Executive Director, U.S. Army Developmental Test Command.

41. Dr. Nola Johnson, Deputy to the Commanding General, Maneuver Support/Director, Capabilities Development and Integration, U.S. Army Training and Doctrine Command.

42. Dr. Shashi P. Karna, Senior Research Scientist (NanoFunctional Materials), U.S. Army Research Laboratory.

43. Mr. Thomas E. Kelly III, Deputy Under Secretary of the Army, Office of the Under Secretary of the Army, Office of the Secretary of the Army.

44. Mr. Thomas Killion, Deputy Assistant Secretary for Research and Technology/Chief Scientist, Office of the Assistant Secretary of the Army (Acquisition, Logistics, and Technology).

45. Mr. Darell Lance, Chief of Staff, Headquarters, U.S. Army Intelligence and Security Command.

46. Dr. Tomasz R. Letowski, Senior Research Scientist (Soldier Performance), U. S. Army Research Laboratory.

47. Mr. Mark R. Lewis, Assistant Deputy Chief of Staff for Operations, Office of the Deputy Chief of Staff, G-3/5/7.

48. LTG James Lovelace, Commanding General, Third Army/United States Army Central.

49. Dr. James W. McCauley, Senior Research Engineer (Ceramic Materials), U.S. Army Research Laboratory.

50. Dr. Robert W. McMillan, Senior Research Scientist (Research Applications), U.S. Army Space and Missiles Defense Command.

51. Mr. Gary P. Martin, Director, U.S. Army Communication-Electronics Research, Development and Engineering Center, U.S. Army Research, Development and Engineering Command.

52. Mr. Joseph Mizzoni, Deputy Auditor General for Acquisition and Logistics Audits, Army Audit Agency.

53. Mr. William Moore, Deputy to the Commanding General, U.S. Army Combined Arms Support, U.S. Army Training and Doctrine Command.

54. Mr. Daniel Morris, Special Assistant to the Commander, National Ground Intelligence Center.

55. Ms. Joyce Morrow, Administrative Assistant to the Secretary of the Army, Office of the Administrative Assistant to the Secretary of the Army, Office of the Secretary of the Army.

56. Major General James R. Myles, Commanding General, U.S. Army Aviation and Missile Command, U.S. Army Materiel Command.

57. Major General Roger Nadeau, Commanding General, Army Test and Evaluation Command.

58. Mr. John Nerger, Executive Director, Installation Management Command, Assistant Chief of Staff for Installation Management.

59. Mr. Robert Parise, Command Counsel, U.S. Army Materiel Command.

60. Dr. John Parmentola, Director for Research and Laboratory Management, Office of the Assistant Secretary of the Army (Acquisition, Logistics, and Technology).

61. Mr. Dean Pfoltzer, Deputy Director Program Analysis and Evaluation, Office of the Deputy Chief of Staff, G-8.

62. Mr. Benjamin Piccolo, Principal Deputy Auditor General, Army Audit Agency.

63. Ms. Tracey Pinson, Director of Small and Disadvantaged Business Utilization, Office of the Secretary of the Army.

64. Mr. Dean G. Popps, Principal Deputy Assistant Secretary of the Army (Acquisition, Logistics and Technology)/Director for Iraq Reconstruction and Program Management), Office of the Assistant Secretary of the Army (Acquisition, Logistics and Technology).

65. Mr. Geoffrey G. Prosch, Principal Deputy Assistant Secretary of the Army (Installations, Logistics & Environment), Office of the Assistant Secretary of the Army (Installations and Environment).

66. Major General Fred D. Robinson, Commanding General, U.S. Army Research Development and Engineering Command, U.S. Army Materiel Command.

67. Mr. Mark Rocke, Deputy Assistant Secretary (Strategic Communications and Business Transformation), Office of the Assistant Secretary of the Army (Acquisition, Logistics, and Technology).

68. Mr. Michael Ryan, Director, European Security and Defense Policy Advisor/Defense Advisor, U.S. North Atlantic Treaty Organization.

69. Ms. Connie Schmaljohn, Senior Research Scientist (Medical Defenses Against Infectious Disease Threats, U.S. Army Materiel Command.

70. Mr. Craig Schmauder, Deputy General Counsel (Civil Works and Environment), Office of the General Counsel.

71. Ms. Lynn Schnurr, Director, Army Intelligence Community Information Management, Deputy Chief of Staff, G-2.

72. Mr. Thomas Schoenbeck, Director, Enterprise Support, U.S. Southern Command.

73. Dr. Paul H. Shen, Senior Research Scientist (Nuclear/Electronics Survivability, U. S. Army Research Laboratory.

74. Mr. Gordon Spencer, Chief Scientist, U.S. Army National Ground Intelligence Center, U.S. Army Intelligence and Security Command.

75. Mr. Lewis Steenrod, Director of Modernization, Office of the Deputy Chief of Staff, G-8.

76. Mr. Steven Stockton, Deputy Director, Civil Works, U.S. Army Corps of Engineers.

77. Dr. Brian R. Strickland, Chief Scientist (Directed Energy Applications), U. S. Army Space and Missile Defense Command.

78. Mr. Larry Stubblefield, Deputy Administrative Assistant to the Secretary of the Army/Director, Shared Services, Office of the Administrative Assistant to the Secretary of the Army.

79. Dr. Mark Swinson, Chief Scientist, U.S. Army Space and Missile Defense Command.

80. Major General Merdith W. B. Temple, Deputy Commanding General for Civil and Emergency Operation, U.S. Army Corps of Engineers.

81. Mr. Edward Thomas, Deputy to the Commanding General/Director of Logistics and Readiness Center, U.S. Army Communications-Electronics Life Cycle Management Command, U.S. Army Materiel Command.

82. Mr. Lee Thompson, Executive Director for Logistics Civil Augmentation Program, U.S. Army Materiel Command.

83. Lieutenant General N. Ross Thompson, Military Deputy, Assistant Secretary of the Army (Acquisition, Logistics and Technology), Office of the Assistant Secretary of the Army (Acquisition, Logistics and Technology).

84. Ms. Belinda Tiner, Deputy Auditor General, Policy and Operations Management, Army Audit Agency.

85. Dr. Mark B. Tischler, Senior Research Scientist (Rotorcraft Flight Dynamics and Control), U. S. Army Research, Development and Engineering Command.

86. Mr. J. Joseph Tyler, Director of Military Programs, U.S. Army Corps of Engineers.

87. Mr. Edgar Vandiver, III, Director, U.S. Army Center for Army Analysis.

88. Mr. Roy Wallace, Director, Plans and Resources, Office of the Deputy Chief of Staff, G-1.

89. Mr. Steven Wetzel, Deputy Director, Strategy and Policy, U.S. Southern Command.

90. Mr. Jeffrey White, Director, Human Capital Strategy/Deputy to the Deputy Under Secretary of the Army.

91. Mr. Conrad Whyne, Director, U.S. Army Chemical Materials Agency, U.S. Army Materiel Command.

92. Mr. Gary Winkler, Director for Enterprise Management, Office of the Chief Information Officer/G-6,

93. Dr. Thomas W. Wright, Senior Research Scientist (Terminal Ballistics), U. S. Army Research Laboratory.

94. Ms. Debra Wymer, Director, Technical Integration and Interoperability for Space and Missile Defense, U.S. Army Space and Missile Defense Command.

Brenda S. Bowen,
Army Federal Register Liaison Officer.

[FR Doc. E8-27175 Filed 11-14-08; 8:45 am]

BILLING CODE 3710-08-P